DEPARTMENT OF THE TREASURY

Office of International Affairs; Treasury International Capital (TIC) Form D: Report of Holdings of, and Transactions in, Financial Derivatives Contracts With Foreign Residents

AGENCY: Departmental Offices, Department of the Treasury.

ACTION: Notice of reporting requirements.

SUMMARY: By this Notice, the Department of the Treasury is informing the public that it is conducting a mandatory quarterly collection of information on holdings and transactions in financial derivatives contracts undertaken between foreign resident counterparties and major U.S.-resident participants in derivatives markets. This Notice constitutes legal notification to all United States persons who are in the reporting panel set forth in this Notice that they must respond to this collection of information. Copies of the Form D report and instructions may be printed from the Internet at: http://www.treas.gov/tic/forms.html.

Who Must Report: The reporting panel consists of all U.S.-resident participants in derivatives markets, where each reporter holds derivatives having a total notional value in excess of $100 billion, measured on a consolidated-worldwide accounting basis, at the end of the calendar quarter being reported. The worldwide total includes all derivatives contracts with both U.S. and foreign residents, and all contracts in the accounts of both the reporter and the reporter's customers.

What to Report: This report will collect information on all over-the-counter (OTC) and exchange-traded derivatives contracts with foreign residents that meet the definition of a derivatives contract in FASB Statement No. 133, as amended.

How to Report: Copies of Form D report and instructions, which contain complete information on reporting procedures and definitions, may be obtained at the Web site address given above in the SUMMARY, or by contacting the survey staff of the Federal Reserve Bank of New York at (212) 720-6300. The mailing address is: Federal Reserve Bank of New York, Statistics Function, 4th Floor, 33 Liberty Street, New York, NY 10045-0001. Inquiries also may be made to Dwight Wolkow at (202) 622-1276, e-mail: dwight.wolkow@do.treas.gov.

When to Report: Data must be submitted to the Federal Reserve Bank of New York, acting as fiscal agent for the Department of the Treasury, no later than 60 calendar days after the end of the calendar quarter being reported. In order to reduce the initial reporting burden in 2005 associated with implementing this information collection, these mandatory reporting requirements will be phased in over a period of three quarters. In the first phase, reporting will begin for all fair value positions in the first two columns of Form D, and for net settlements for only OTC foreign exchange contracts. This phase will be effective beginning with the March 2005 reporting date, which covers the first calendar quarter of 2005. In the second phase, reporting will begin for net settlements data for all exchange-traded contracts and will be effective beginning with the June 2005 reporting date, which covers the second calendar quarter of 2005. In the final phase, reporting will begin for all of the remaining information. This Phase will be implemented beginning with the September 2005 reporting date, which covers the third calendar quarter of 2005.

Paperwork Reduction Act Notice: This data collection has been approved by the Office of Management and Budget (OMB) in accordance with the Paperwork Reduction Act and assigned control number 1505-0199. An agency may not conduct or sponsor, and a person is not required to respond to, a collection of information unless it displays a valid control number assigned by OMB. The estimated average burden associated with this collection of information, when fully implemented, is 30 hours per respondent per filing. Comments concerning the accuracy of this burden estimate and suggestions for reducing this burden should be directed to the Department of the Treasury, Attention Administrator, International Portfolio Investment Data Reporting Systems, Room 4410@1440NYA, Washington, DC 20220, and to OMB, Attention Desk Officer for the Department of the Treasury, Office of Information and Regulatory Affairs, Washington, DC 20503.

Dwight Wolkow,
Administrator, International Portfolio Investment Data Reporting Systems.

[FR Doc. 04-23170 Filed 10-14-04; 8:45 am]

BILLING CODE 4810-25-P